DEPARTMENT OF STATE

[Public Notice 3417]

Privacy Act of 1974; Integration of the Arms Control and Disarmament Agency and the United States Information Agency Systems of Records

SUMMARY: In accordance with the Privacy Act (5 U.S.C. 552a(e)(4) this notice describes alterations to the systems of records of the former Arms Control and Disarmament Agency, the former United States Information Agency and the Department of State. Revision to this systems of records is required as a result of the consolidation of the agencies as mandated by the Foreign Affairs Agencies Consolidation Act of 1998 (Pub. L. 105-277). It should also be noted that three systems of records specific to the International Bureau of Broadcasting of the former USIA were transferred to the Broadcasting Board of Governors. All operative systems of records affected by the Consolidation Act are being revised to reflect any changes. The revised system descriptions will be submitted separately. Inactive records from these ACDA and USIA systems of records were either retired or destroyed in accordance with their approved Records Disposition Schedules unless otherwise noted.

Notice is hereby given that the Department of State proposes to delete systems of records or create new Department of State systems of records from systems that were maintained by the former Arms Control and Disarmament Agency (ACDA) and former United States Information Agency (USIA). These actions are taken pursuant to the provisions of the Privacy Act of 1974, as amended [5 U.S.C. 522a (r)], and the Office of Management and Budget Circular No. A-130, Appendix I.

Pursuant to the Foreign Affairs Agencies Consolidation Act of 1998 (Pub. L. 105-277) the former ACDA and former USIA were integrated into the Department of State effective April 1, 1999 and October 1, 1999 respectively. As part of the consolidation, the Department assumed custody and control of systems of records maintained by ACDA and USIA. To eliminate duplication and to reflect current organizational and operational conditions, the Department has conducted a comprehensive review of the Privacy Act Systems of Records of both agencies and determined which of the systems of the former ACDA and former USIA will be deleted. Where appropriate, records of the deleted systems will be absorbed by Department of State Privacy Act systems of records which are performing like functions. Unique ACDA or USIA systems that continue to operate will be treated as new systems of records and will be assigned a Department of State system number.

The Department Intends To Take the Following Actions Related to the Privacy Act Systems of Records of the Former ACDA

ACDA-1 Official Personnel Records—This system will be deleted. Each individual's personnel records, including tax records associated with the employee's compensation, were merged into two of the Department's personnel records systems (STATE-31) Personnel Records and STATE-30 Personnel Payroll Records).

ACDA-2 Pending Personnel Records—This system will be deleted. The records of individuals who were under consideration for employment were merged into STATE-31 Personnel Records.

ACDA-3 Security Records—This system will be deleted. All ACDA security files were merged into STATE-36 Security Records.

ACDA-4 Statements by Principals During the Strategic Arms Limitation Talks, Mutual Balanced Force Reduction Negotiations, and the Standing Consultative Committee—This system will be deleted. Prior to its planned implementation in the mid-1980's it was learned that the records to be maintained in this system could be obtained from an existing record system. To avoid the creation of duplicate records, the ACDA-4 system of records was never implemented and no records were accumulated.

ACDA-5 Top Secret Document Control File Records—This system will be deleted. All Top Secret documents in ACDA's possession at the time of the consolidation were either archived, destroyed in accordance with existing regulations, or merged into the record systems of the gaining bureau(s). The Department of State has no Privacy Act system comparable to ACDA-5.Top Secret (TS) documents in the Department are filed, controlled and retrieved by TS control numbers and not by the name of the individual recipient.

ACDA-6 Document Classifier Data Index—This system will be deleted. ACDA-6 contained a list of ACDA personnel with authority under Executive Order 11652 to originally classify national security documents. The names of employees with authority to classify originally were maintained on data index cards and were retrieved by card sorting on the individual's name. ACDA-6 was discontinued with the issuance of Executive Order 12958 in 1995. The index card records were disposed of two years later in accordance with General Records Schedule 18, Item 1. The Department of State has no comparable Privacy Act System. The Department maintains a register of positions authorized to originally classify documents, but the information is accessible by position number and title and not by personal identifier as was the case with ACDA-6.

ACDA-7 Congressional Information and Attitudes Files—This system will be deleted. Active requests for information were merged into STATE-43 Congressional Correspondence and Voting Records.

ACDA-8 External Contracts (other than small purchases)—This system will be deleted. ACDA discontinued operation of the system in October 1989 when it was decided that there was no longer a requirement to monitor the status of these external contracts and the contract for providing the service expired. There is no requirement for the functions previously provided by ACDA-8 to be integrated with any Department system of records.

ACDA-9 Privacy Act Request Files—This system will be deleted. Active requests for information were merged into STATE-40 Privacy Act Request Records.

ACDA-10 Freedom of Information Act Requests—This system will be deleted. Active requests for information were merged into STATE-35 Public Affairs Records. The current STATE-35 will be combined with STATE-40 and will be renamed Information Access Programs Records (STATE-35). The STATE-40 number will be vacated and designated for future use.

ACDA-11 World Military Expenditures Mailing List—This system will continue operation within the Department of State's Bureau of Verification and Compliance. The ACDA-11 system identification will be deleted and the system will be designated as a new Department system, STATE-55 World Military Expenditures Mailing List. The former ACDA system description is being revised to reflect the organizational change. Changes will be noted in system location, storage media, safeguards, system manager, and notification procedures.

ACDA-12 ACDA Mailing List—This system will be deleted. The Department's review revealed that this system ceased to operate in the mid-1980's. It is believed that limited resources precluded the continued routine mailings of general arms control and disarmament information.

ACDA-13 Travel Authorization File—This system will be deleted. The active records will be merged into STATE-31 Personnel Records and/or STATE-32 Personnel Travel Records.

ACDA-14 Confidential Statement of Employment and Financial Interest Records—This system will be deleted. The records associated with ACDA-14 were merged into the Department's system designated as STATE-04 Confidential Statement of Employment and Financial Interests Records.

ACDA-16 Grievance Records—This system will be deleted. The active personnel grievance records associated with this system were merged into STATE-31 Personnel Records.

ACDA-17 Integrated Retrieval System—This system will be deleted. The system was discontinued in the early 1990's. Index records were converted to a more advanced computer system and the records stored on microfiche are still accessible. Retrieval is by subject and not by personal identifier.

The Department Intends To Take the Following Actions Related to the Privacy Act Systems of Records of the Former USIA

USIA-1 IBB Director's Executive Secretariat Files; USIA-2 Contract Talent Vendor Files—B/PA; and USIA-3 Employee Personnel Files—B/PA were systems of records specifically for the International Bureau of Broadcasting and therefore have been transferred to the Broadcasting Board of Governors.

USIA-4 Congressional Liaison—This system will be deleted. The responsibility for maintaining Congressional correspondence records is covered by STATE-43 Congressional Correspondence and Voting Records.

USIA-5 Director's Secretariat Staff Files—This system will be deleted. The active records were merged into STATE-28 Personality Cross-Reference Index to the Secretariat Automated Data Index Records, which will be renamed Electronic Correspondence Organizer Personality Cross-Reference Index to the Correspondence Management System.

USIA-6 Educational and Cultural Exchange Program—This system of records will replace the current STATE-8 Educational and Cultural Exchange Program Records, but retains the State designation. USIA-6 system identification will be deleted. The Department had previously transferred this function to USIA, but did not administratively remove its system of records issuance at that time.

USIA-7 Office of Arts America—The Department will assign STATE-62 to this system as a newly transferred function from the former USIA. USIA-7 system identification will be deleted.

USIA-8 Cultural Property Advisory Committee—The Department will assign STATE-63 to this system as a newly transferred function from the former USIA. USIA-8 system identification will be deleted.

USIA-9 Employee Statements of Financial Interest and Confidential Statements of Employment and Financial Interest—This system will be deleted. The records and functions of USIA-9 were merged into STATE-4 Confidential Statement of Employment and Financial Interests Records.

USIA-10 Legal Files—This system will be deleted. The records were merged into STATE-21 Legal Case Management Records.

USIA-11 Recruitment Records—This system has been deleted. Records were destroyed pursuant to an approved Records Disposition Schedule.

USIA-12 Privacy and Freedom of Information Acts Files—This system will be deleted. Active requests for information were merged into STATE-35 Public Affairs Records. STATE-35 will be combined with STATE-40 Privacy Act Request Records and renamed Information Access Programs Records (STATE-35). The STATE-40 system number will be vacated and designated for future use.

USIA-13 Service Contributors—The portion of this system relating to translators has been merged into STATE-37 Translators and Interpreters Records; and the records of the free-lance writers and photo-editors will be assigned STATE-64 as a new system of records. USIA-13 system identification will be deleted.

USIA-14 Speaker Databank/Name—The Department will assign STATE-65 to this system as a newly transferred function from the former USIA. USIA-14 system identification will be deleted.

USIA-15 Electronic Media Photographer—The Department will assign STATE-66 to this system as a newly transferred function from the former USIA. USIA-15 system identification will be deleted.

USIA-16 Employee Parking USIA—This system will be deleted. The comparable State system of records, STATE-52 Permit and Car Pool Records, will be updated to include former USIA employees.

USIA-17 Mailing Lists—This system will be deleted. Retrieval is by function rather than a personal identifier.

USIA-18 Official Travel Records—This system will be deleted. Active personnel travel records associated with the USIA-18 were merged into STATE-31 Personnel Records and/or STATE-32 Personnel Travel Records.

USIA-19 Salary Computation Records—This system will be deleted. The Department maintains similar information in STATE-30 Personnel Payroll Records and STATE-31 Personnel Records which will now include the categories of individuals previously covered in USIA-19.

USIA-20 Employee Payroll and Retirement System—This system will be deleted. The records from this system were merged into STATE-30 Personnel Payroll Records.

USIA-21 Records on Shipment of Effects, Unaccompanied Baggage and Automobiles—This system will be deleted. Active records associated with the USIA-21 system were merged into STATE-32 Personnel Travel Records.

USIA-22 Travel Authorization Obligation File—This system will be deleted. The active records associated with the USIA-22 were merged into STATE-32 Personnel Travel System.

USIA-23 Recruitment Records—This system will be deleted. The records from this system were merged into STATE-31 Personnel Records.

USIA-24 Employment Requests—This system will be deleted. The records from this system were merged into STATE-31 Personnel Records.

USIA-25 Employee Master Personnel Records—This system will be deleted. The active personnel records associated with the USIA-25 system were merged into STATE-31 Personnel Records.

USIA-26 Foreign Service Location File—This system will be deleted. The records from this system were merged into STATE-12 Foreign Service Employee Locator/Notification Records.

USIA-27 Foreign Service Selection Board Files—This system will be deleted. The records from this system were merged into STATE-31 Personnel Records.

USIA-28 Career Counseling Records—This system will be deleted. The records from this system will be merged into STATE-31 Personnel Records.

USIA-29 Officer/Specialist Assignments Requests—This system will be deleted. The records from this system will be merged into STATE-31 Personnel Records.

USIA-30 Advisory, Referral and Counseling Records—The system will be deleted. Retrieval is by subject rather than a personal identifier.

USIA-31 Employee Grievance Files—This system will be deleted. The active employee grievance records associated with the system were merged into STATE-31 Personnel Records.

USIA-32 Incentive Awards File—This system will be deleted. The records from this system were merged into STATE-31 Personnel Records.

USIA-33 Retirement and Insurance Records—This system will be deleted. The records from this system were merged into STATE-31 Personnel Records.

USIA-34 Senior Officer Files—This system will be deleted. The records from this system were merged into STATE-31 Personnel Records.

USIA-35 Solicitation Mailing List Application—This system will be deleted. Active records associated with USIA-35 were merged into the Department's Enhanced Automated Procurement and Contracting System (EAPCS) and/or STATE-38 Vendor Records. Administrative note: The EAPCS system will be reviewed to determine if information is retrieved using name or other personal identifiers. A system description will be written and published if appropriate.

USIA-36 U.S. Information Agency (USIA) Procurement Personnel Information System—This system will be deleted. Effective September 30, 1999 all warrants of USIA contracting officers expired and contracting officers from the former USIA will subsequently be covered under STATE-58 Procurement Career Management Information System.

USIA-37 Employee Training Files—This system will be deleted. The records from this system were merged into STATE-14 Foreign Service Institute Records.

USIA-38 Personnel Security and Integrity Records—This system will be deleted. All USIA security files were merged into STATE-36 Security Records.

USIA-39 Security Identification Cards and Automated Access Control—This system will be deleted. All USIA security files were merged into STATE-36 Security Records.

USIA-40 Locator Cards—This system will be deleted. The database was not transferred to the Department of State. The records were disposed of in accordance with an approved Records Disposition Schedule.

USIA-41 Office of Civil Rights Complaint Files—This system will be deleted. The active records associated with USIA-41 were merged into STATE-9 Equal Employment Opportunity Records.

USIA-42 Office of Civil Rights General Files—This system will be deleted. The records from USIA-42 have been incorporated into the Administrative Files of the Office of Equal Employment Opportunity and Civil Rights which is not a name-retrievable system of records.

USIA-43 Minority Group Data—This system will be deleted. The records from USIA-43 have been incorporated into the Administrative Files of the Office of Equal Employment Opportunity and Civil Rights which is not a name-retrievable system of records.

USIA-44 Senior Officer and Prominent Employee Information—This system will be deleted. Active records were merged into STATE-22 Records of Bureau of Public Affairs.

USIA-45 Office of Research—This system will be deleted. The records from this system were merged into STATE-36 Security Records.

USIA-46 Americans Residing in Foreign Countries—This system will be deleted. All records from USIA-46 have been disposed of in accordance with an approved Records Disposition Schedule. The Department maintains like information in STATE-05 Overseas Citizens Services which will now include the categories of individuals previously covered in USIA-46.

USIA-47 Overseas Personnel Files and Records—This system will be deleted. The records from this system were merged into STATE-31 Personnel Records.

Any persons with comments about the proposed actions covered by this notice may submit their comments in writing to Margaret Peppe, Chief; Programs and Policies Division; Office of IRM Programs and Services; Room 6073, SA-2; Department of State; 515 22nd Street, NW; Washington, DC 20522. The actions delineated above will be effective 40 days from the date of publication, unless we receive comments that will result in a contrary determination.

Dated: September 7, 2000.
Patrick F. Kennedy,
Assistant Secretary for the Bureau of Administration.

[FR Doc. 00-23639 Filed 9-13-00; 8:45 am]

BILLING CODE 4710-24-M